DEPARTMENT OF ENERGY

Federal Energy Regulatory Commission

[Docket No. ER04-474-002, et al.]

PJM Interconnection, L.L.C., et al.; Electric Rate and Corporate Filings

November 1, 2004.

The following filings have been made with the Commission. The filings are listed in ascending order within each docket classification.

1. PJM Interconnection, L.L.C.

[Docket No. ER04-474-002]

Take notice that, on October 26, 2004, Monongahela Power Company, The Potomac Edison Company and West Penn Power Company, all doing business as Allegheny Power, submitted a compliance filing pursuant to PJM Interconnection, L.L.C., 109 FERC ¶ 61,030 (2004).

Allegheny Power states that copies of the filing were served on parties on the official service list in the above-captioned proceeding and the interested state commission.

Comment Date: 5 p.m. Eastern Time on November 16, 2004.

2. Portland General Electric Company

[Docket No. ER04-1204-001]

Take notice that on October 27, 2004, Portland General Electric Company (PGE) tendered for filing with the Commission, pursuant to 18 CFR section 35.13, new and revised tariff sheets to its Open Access Transmission Tariff (OATT). PGE states that the new and revised sheets are intended to incorporate the Large Generator Interconnection Procedures (LGIP) and Large Generator Interconnection Agreement (LGIA) issued by the Commission in FERC Order No. 2003-A and make minor corrections from the original filing made by the Company on September 7, 2004. PGE requests an effective date of December 25, 2004.

PGE states that a copy of this filing was supplied to the Public Utility Commission of Oregon.

Comment Date: 5 p.m. Eastern Time on November 17, 2004.

3. Midwest Independent Transmission System Operator, Inc.

[Docket No. ER05-75-000]

Take notice that on October 27, 2004, the Midwest Independent Transmission System Operator, Inc. (Midwest ISO) submitted an Interconnection and Operating Agreement among Superior Renewable Energy, LLC, Montana-Dakota Utilities Co., a Division of MDU Resources Group, Inc. and the Midwest ISO.

Midwest ISO states that a copy of this filing was served on Superior Renewable Energy, LLC and Montana-Dakota Utilities Co.

Comment Date: 5 p.m. Eastern Time on November 17, 2004.

4. New York State Electric & Gas Corporation

[Docket No. ER05-76-000]

Take notice that on October 27, 2004 New York State Electric & Gas Corporation (NYSEG) tendered for filing pursuant to section 205 of the Federal Power Act and section 35.13 of the Commission's regulations, a supplement to Rate Schedule 72 filed with FERC corresponding to an Agreement with the Municipal Board of the Village of Bath (the Village). NYSEG states that this rate filing is made pursuant to section 2 (a) through (c) of Article IV of the December 1, 1977 Facilities Agreement between NYSEG and the Village, filed with FERC. NYSEG also states that the annual charges are revised based on data taken from NYSEG's Annual Report to the Federal Energy Regulatory Commission (FERC Form 1) for the twelve month period ending December 31, 2003. NYSEG requests an effective date of January 1, 2005.

NYSEG states that copies of the filing were served upon the Municipal Board of the Village of Bath and the Public Service Commission of the State of New York.

Comment Date: 5 p.m. Eastern Time on November 17, 2004.

5. Commonwealth Edison Company

[Docket No. ER05-78-000]

Take notice that on October 26, 2004, Exelon Corporation, on behalf of its subsidiary Commonwealth Edison Company, submitted to the Commission a Notice of Cancellation for Service Agreement No. C1057, under PJM L.L.C.'s FERC Electric Tariff, Sixth Revised Volume No. 1, with Indeck-Bourbonnais, L.L.C. Exelon requests an effective date of October 7, 2004.

Exelon states that a Notice of the proposed cancellation has been served on Indeck-Bourbonnais L.L.C., PJM Interconnection, L.L.C. and the Illinois Commerce Commission.

Comment Date: 5 p.m. Eastern Time on November 17, 2004.

6. New York State Electric & Gas Corporation

[Docket No. ER05-79-000]

Take notice that on October 27, 2004 New York State Electric & Gas Corporation (NYSEG) tendered for filing pursuant to section 205 of the Federal Power Act and section 35.13 of the Commission regulations, a supplement to Rate Schedule 117 filed with FERC corresponding to an Agreement with the Delaware County Electric Cooperative (the Cooperative). NYSEG states that this rate filing is made pursuant to section 1 (c) and section 3(a) through (c) of Article IV of the June 1, 1977 Facilities Agreement between NYSEG and the Cooperative, filed with FERC. NYSEG also states that the annual charges are revised based on data taken from NYSEG's Annual Report to the Commission (FERC Form 1) for the twelve month period ending December 31, 2003. NYSEG requests an effective date of January 1, 2005.

NYSEG states that copies of the filing were served upon the Delaware County Electric Cooperative, Inc. and the Public Service Commission of the State of New York.

Comment Date: 5 p.m. Eastern Time on November 17, 2004.

7. California Independent System Operator Corporation

[Docket No. ER05-80-000]

Take notice that the California Independent System Operator Corporation (ISO), on October 27, 2004, tendered for filing an unexecuted Meter Service Agreement for ISO Metered Entities between the ISO and the City of Azusa, California (Azusa) for acceptance by the Commission. The ISO requests an effective date of October 27, 2004.

The ISO states that this filing has been served on Azusa, the California Public Utilities Commission, and the parties on the official service list in Docket No. ER04-667-000.

Comment Date: 5 p.m. Eastern Time on November 17, 2004.

8. California Independent System Operator Corporation

[Docket No. ER05-81-000]

Take notice that on October 27, 2004, the California Independent System Operator Corporation (ISO) tendered for filing an amendment (Amendment No. 3) to revise the Metered Subsystem Agreement between the ISO and Silicon Valley Power (SVP) for acceptance by the Commission. ISO states that the purpose of Amendment No. 3 is to revise Schedules 1, 14, and 15.1 of the Metered Subsystem Agreement to include the new Donald Von Raesfeld power plant. The ISO requests an effective date of October 27, 2004.

The ISO states that this filing has been served on SVP, the California Public Utilities Commission, and all entities on the official service list for Docket Nos. ER02-2321-000, ER04-185-000, and ER04-940-000.

Comment Date: 5 p.m. Eastern Time on November 17, 2004.

9. CalPeak Power—El Cajon, LLC

[Docket No. ER05-83-000]

Take notice that on October 27, 2004 CalPeak Power—El Cajon, LLC (El Cajon) submitted modifications to certain schedules contained in the Reliability Must-Run Service Agreement between El Cajon and the California Independent System Operator Corporation (ISO).

El Cajon states that copies of the filing were served upon the ISO, San Diego Gas & Electric Company, the California Public Utilities Commission and the California Electricity Oversight Board, as well as all parties on the official service list compiled by the Secretary in Docket No. ER04-517-000.

Comment Date: 5 p.m. Eastern Time on November 17, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3105 Filed 11-9-04; 8:45 am]

BILLING CODE 6717-01-P